EQUAL EMPLOYMENT OPPORTUNITY COMMISSION

Sunshine Act Meeting

Date and Time: Monday, July 18, 2005, 9 a.m. eastern time.

Place: Clarence M. Mitchell, Jr. Conference Room on the Ninth Floor of the EEOC Office Building, 1801 “L” Street, NW., Washington, DC 20507.

Status: The meeting will be open to the public.

Matters to be considered:

Open Session:

1. Announcement of Notation Votes.

2. FEPA Designations for Springfield, Illinois Department of Community Relations & Reading, Pennsylvania Human Relations Commission.

3. Certification of Eight FEP Agencies.

4. Competitive 8(a) Contract for Headquarters Support Services.

5. BNA Subscriptions Renewal.

6. Novell, Software Licensing Maintenance Agreement.

7. Contract for Processing the 2005 EEO-4 Survey.

Note: In accordance with the Sunshine Act, the meeting will be open to public observation of the Commission's deliberations and voting. (In addition to publishing notices on EEOC Commission meetings in the Federal Register, the Commission also provides a recorded announcement a full week in advance on future Commission sessions.)

Please telephone (202) 663-7100 (voice) and (202) 663-4074 (TTY) at any time for information on these meetings.

FOR FURTHER INFORMATION CONTACT: Stephen Llewellyn, Acting Executive Office on (202) 663-4070.

Dated: This notice issued July 7, 2005.
Stephen Llewellyn,
Acting Executive Officer, Executive Secretariat.

[FR Doc. 05-13702 Filed 7-7-05; 3:18 pm]

BILLING CODE 6750-06-M